DEPARTMENT OF TRANSPORTATION

Federal Aviation Administration

Notice of Public Availability of the final Environmental Assessment (EA) and Finding of No Significant Impact/Record of Decision (FONSI/ROD) Signed March 20, 2012, for the Evaluation of the Potential Environmental Impacts Associated With the Dual Track Airport Project for the Brookings Regional Airport in Brookings, SD

AGENCY: Federal Aviation Administration (FAA), Department of Transportation (DOT).

ACTION: Notice of Availability of a final EA and FONSI/ROD for the evaluation of the potential environmental impacts associated with the Dual Track Airport Project for Brookings Regional Airport, Brookings, South Dakota.

SUMMARY: The FAA has issued the final EA and FONSI/ROD for the Dual Track Airport Project for Brookings Regional Airport. The EA was prepared in accordance with the National Environmental Policy Act (NEPA) of 1969, as amended, FAA Orders 1050.1E, “Environmental Impacts: Policies and Procedures” and FAA Order 5050.4B, “NEPA Implementing Instructions for Airport Actions”.

POINT OF CONTACT: Ms. Patricia Dressler, Environmental Protection Specialist, FAA Bismarck Airports District Office (ADO), 2301 University Drive, Building 23B, Bismarck, North Dakota 58504. Telephone number (701) 323-7380.

SUPPLEMENTARY INFORMATION: The FAA is issuing a final EA and FONSI/ROD that evaluated the potential environmental impacts associated with the Dual Track Airport Project proposed Brookings Regional Airport Expansion at Brookings Regional Airport, Brookings, South Dakota. Based on the analysis contained in the final EA, the FAA has determined the selected alternative has no associated significant impacts to resources identified in accordance with FAA Order 1050.1E, Environmental Impacts: Policies and Procedures and FAA Order 5054.4B, National Environmental Policy Act Implementing Instructions for Airport Actions. Therefore, no environmental impact statement will be prepared. The Brookings Expansion project will provide an airport layout that achieves the project purpose, specifically, control over the Runway Protection Zones, sufficient runway length for the existing and anticipated future aircraft fleets, and a standard runway intersection for the two runways.

Sixteen alternatives (9 on site and 7 new airport locations) were studied for meeting the purpose and need. Thirteen of these alternatives were reviewed, analyzed, and discarded due to the degree of environmental impacts and/or not meeting purpose and need. A detailed discussion is in the FONSI/ROD Section entitled V. Alternatives Considered and Discarded. The selected alternative is one of three alternatives considered in the final EA. The selected alternative consists of addressing the identified needs.

The selected alternative includes the:

(1) Unconditional approval of the Airport Layout Plan (ALP) for the development listed in the EA and the decision document. (2) Issue final airspace determinations for the development listed on the ALP. (3) Eligibility for Federal grants-in-aid funds for eligible items. (4) Approval for the development or revision, implementation, and use of air traffic/flight procedures to implement the proposed action. (5) FAA finding of “No Historic Properties Affected” for the Proposed Action. (6) FAA finding of “may affect, not likely to adversely affect” the American burying beetle (Nicrophorus americanus) and the Western prairie fringed orchid (Platanthera praeclara). (7) FAA Finding of “may affect, likely to adversely affect” the Topeka shiner (Notropis topeka) an endangered species, however, in Formal Section 7 Consultation on the Endangered Species Act with the USFWS concluded that the action, as proposed, is not likely to jeopardize the continued existence of the Topeka shiner. (8) FAA floodplain finding that there is no prudent and practicable alternative to this impact and the propose action includes all practicable measures to minimize harm to floodplains. (9) FAA wetland finding that there is no practicable alternatives to such construction and the proposed action includes all practicable measure to minimize harm to wetlands.

These documents will be available for public review during normal business hours at:

Federal Aviation Administration Bismarck ADO, 2301 University Drive, Building 23B, Bismarck, North Dakota 58504;

Brookings City Hall, Engineering Department, 311 3rd Avenue, Brookings, South Dakota 57706;

Brookings Public Library, 515 3rd Street, Brookings, South Dakota 57706.

Issued in Bismarck North Dakota, March 20, 2012.
Thomas T. Schauer,
Manager, Bismarck Airport District Office FAA, Great Lakes Region.

[FR Doc. 2012-7741 Filed 3-29-12; 8:45 am]

BILLING CODE 4910-13-P